DEPARTMENT OF ENERGY

Federal Energy Regulatory Commission

[Docket No. EG02-12-000, et al.]

Duke Energy Grays Harbor, LLC, et al.; Electric Rate and Corporate Regulation Filings

October 30, 2001.

Take notice that the following filings have been made with the Commission:

1. Duke Energy Grays Harbor, LLC

[Docket No. EG02-12-000]

Take notice that on October 26, 2001, Duke Energy Grays Harbor, LLC (Duke Grays Harbor) filed an application with the Federal Energy Regulatory Commission (Commission) for determination of exempt wholesale generator status pursuant to section 32 of the Public Utility Holding Company Act of 1935, as amended, and part 365 of the Commission's regulations.

Duke Grays Harbor is a Delaware limited liability company that will be engaged directly and exclusively in the business of owning and operating all or part of one or more eligible facilities to be located in Grays Harbor County, Washington. The eligible facilities will consist of an approximately 1,200 MW natural gas-fired, combined cycle electric generation plant and related interconnection facilities. The output of the eligible facilities will be sold at wholesale.

Comment date: November 20, 2001, in accordance with Standard Paragraph E at the end of this notice. The Commission will limit its consideration of comments to those that concern the adequacy or accuracy of the application.

2. Progress Energy Inc. on behalf of Carolina Power & Light Company

[Docket No. ER02-160-000]

Take notice that on October 25, 2001, Carolina Power & Light Company (CP&L) tendered for filing with the Federal Energy Regulatory Commission (Commission) an executed Service Agreement between CP&L and the following eligible buyer, Consumers Energy Company d/b/a Consumers Energy Traders. Service to this eligible buyer will be in accordance with the terms and conditions of CP&L's Market-Based Rates Tariff, FERC Electric Tariff No. 5. Copies of the filing were served upon the North Carolina Utilities Commission and the South Carolina Public Service Commission.

CP&L requests an effective date of September 27, 2001 for this Service Agreement.

Comment date: November 15, 2001, in accordance with Standard Paragraph E at the end of this notice.

3. Boston Edison Company

[Docket No. ER02-170-000]

Take notice that on October 26, 2001, Boston Edison Company (Boston Edison) tendered for filing with the Federal Energy Regulatory Commission (Commission) an executed Second Amendment to Agreement for the Purchase and Sales of All Requirements Service by and between Boston Edison and the Town of Wellesley Municipal Light Plant (Wellesley). Boston Edison states that it has served a copy of the filing on Wellesley and the Massachusetts Department of Telecommunications and Energy.

Boston Edison requests an effective date of January 1, 2000.

Comment date: November 16, 2001, in accordance with Standard Paragraph E at the end of this notice.

4. Duke Energy New Albany, LLC

[Docket No. ER02-171-000]

Take notice that on October 26, 2001, Duke Energy New Albany, LLC (Duke New Albany) tendered for filing with the Federal Energy Regulatory Commission (Commission) a Notice of Succession pursuant to 18 CFR 35.16 in order to reflect its name change from New Albany Power I, LLC. As a result of the name change Duke New Albany adopted and ratified all applicable rate schedules filed with the Commission by New Albany Power I, LLC effective October 15, 2001.

Comment date: November 16, 2001, in accordance with Standard Paragraph E at the end of this notice.

5. Northeast Utilities Service Company

[Docket No. ER02-172-000]

Take notice that on October 26, 2001, Northeast Utilities Service Company (NUSCO), tendered for filing with the Federal Energy Regulatory Commission (Commission) a Service Agreement with Calpine Energy Services, L.P. (Engage) under the NU System Companies' System Sale For Resale Tariff No.7. NUSCO states that a copy of this filing has been mailed to Calpine.

NUSCO requests that the Service Agreement become effective on October 1, 2001.

Comment date: November 16, 2001, in accordance with Standard Paragraph E at the end of this notice.

6. Allegheny Energy Service Corporation on behalf of Allegheny Energy Supply Company, LLC

[Docket No. ER02-173-000]

Take notice that on October 26, 2001, Allegheny Energy Service Corporation on behalf of Allegheny Energy Supply Company, LLC (Allegheny Energy Supply) filed with the Federal Energy Regulatory Commission (Commission) Service Agreement No. 151 to add one (1) new Customer to the Market Rate Tariff under which Allegheny Energy Supply offers generation services. Allegheny Energy Supply proposes to make service available as of October 25, 2001 to The New Power Company.

Copies of the filing have been provided to all parties of record.

Comment date: November 16, 2001, in accordance with Standard Paragraph E at the end of this notice.

7. New England Power Company

[Docket No. ER02-174-000]

Take notice that on October 25, 2001, New England Power Company (NEP) submitted for filing with the Federal Energy Regulatory Commission (Commission) Second Revised Service Agreement No. 14 between NEP and North Attleborough Electric Department, Second Revised Service Agreement No. 20 between NEP and Templeton Municipal Lighting Plant and Second Revised Service Agreement No. 21 between NEP and Wakefield Municipal Light Department (collectively, the Service Agreements). The Service Agreements are under NEP's open access transmission tariff—New England Power Company, FERC Electric Tariff, Second Revised Volume No. 9. These Service Agreements are fully executed versions of the First Revised Service Agreements that were filed unexecuted on August 8, 2001, in Docket No. ER01-2802-000. No other changes have been made to the Service Agreements and the terms remain the same as filed on August 8, 2001.

NEP states that a copy of this filing has been served upon the Department of Telecommunications and Energy of the Commonwealth of Massachusetts and parties to the agreements.

Comment date: November 15, 2001, in accordance with Standard Paragraph E at the end of this notice.

8. New England Power Company

[Docket No. ER02-175-000]

Take notice that on October 25, 2001, New England Power Company (NEP) tendered for filing with the Federal Energy Regulatory Commission (Commission) a First Revised Service Agreement No. 16 for service under NEP's Wholesale Market Sales Tariff, FERC Electric Tariff, Original Volume No. 10 between NEP and USGen New England, Inc.

Comment date: November 15, 2001, in accordance with Standard Paragraph E at the end of this notice.

Standard Paragraph

E. Any person desiring to be heard or to protest such filing should file a motion to intervene or protest with the Federal Energy Regulatory Commission, 888 First Street, NE., Washington, DC 20426, in accordance with Rules 211 and 214 of the Commission's rules of practice and procedure (18 CFR 385.211 and 385.214). All such motions or protests should be filed on or before the comment date. Protests will be considered by the Commission in determining the appropriate action to be taken, but will not serve to make protestants parties to the proceeding. Any person wishing to become a party must file a motion to intervene. Copies of this filing are on file with the Commission and are available for public inspection. This filing may also be viewed on the web at http://www.ferc.gov using the “RIMS” link, select “Docket#” and follow the instructions (call 202-208-2222 for assistance). Comments, protests and interventions may be filed electronically via the Internet in lieu of paper. See, 18 CFR 385.2001(a)(1)(iii) and the instructions on the Commission's web site under the “e-Filing” link.

David P. Boergers,
Secretary.

[FR Doc. 01-27668 Filed 11-2-01; 8:45 am]

BILLING CODE 6717-01-P